DEPARTMENT OF COMMERCE

Submission For OMB Review; Comment Request

DOC has submitted to the Office of Management and Budget (OMB) for clearance the following proposal for collection of information under the provisions of the Paperwork Reduction Act (44 U.S.C. chapter 35).

AGENCY: U.S. Census Bureau.

Title: 2002 Census of Governments, Prelist Survey of Special Districts.

Form Number(s): G-24.

Agency Approval Number: None.

Type of Request: New collection.

Burden: 1,520 hours.

Number of Respondents: 3,039.

Avg Hours Per Response: 30 minutes.

Needs and Uses: The Census Bureau requests OMB approval of data collection Form G-24. This form will be used to update the universe list of special district governments for the 2002 Census of Governments authorized by Title 13 of the United States Code. This form will be used specifically to verify the existence of special districts for the 2002 Census of Governments and to obtain current addresses and to identify new districts. The information requested on this form is identical to that requested in the prelist phase of the 1997 Census of Governments. The G-24 survey form will be imprinted with a list of known special districts within the areas of each of the 3,039 counties, consolidated city-county governments, and independent cities designated to receive the form. Respondents will use the G-24 form to update the listing by correcting the imprinted special district list and by reporting any additional districts. The mail canvass is supplemented by calls to major nonrespondents. Procedures, with the exception of using more advanced computer technology to generate the form imprinted with the list of known special districts, are the same as used for the 1997 Prelist Survey.

Affected Public: State, local, or Tribal government.

Frequency: Every 5 years.

Respondent's Obligation: Voluntary.

Legal Authority: Title 13 USC, Section 161.

OMB Desk Officer: Susan Schechter, (202) 395-5103.

Copies of the above information collection proposal can be obtained by calling or writing Madeleine Clayton, Departmental Forms Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: March 8, 2001.
Madeleine Clayton,
Departmental Forms Clearance Officer, Office of the Chief Information Officer.

[FR Doc. 01-6167 Filed 3-12-01; 8:45 am]

BILLING CODE 3510-07-P